LIBRARY OF CONGRESS

Copyright Royalty Board

37 CFR Part 385

[Docket No. 21-CRB-0001-PR (2023-2027)]

Determination of Rates and Terms for Making and Distributing Phonorecords (Phonorecords IV)

AGENCY: Copyright Royalty Board, Library of Congress.

ACTION: Proposed rule; reopening of comment period.

SUMMARY: Because of technical issues with the electronic filing system, the Copyright Royalty Judges are reopening the comment period in connection with a proposed partial settlement and proposed regulations that set certain rates and terms applicable during the period beginning January 1, 2023, and ending December 31, 2027, for the section 115 statutory license for making and distributing phonorecords of nondramatic musical works for an additional 15 days.

DATES: The comment period for the proposed rule published June 25, 2021, at 86 FR 33601, is reopened. Comments and objections, if any, are due no later than August 10, 2021.

ADDRESSES: You may send comments, identified by docket number 21-CRB-0001-PR (2023-2027), online through eCRB at https://app.crb.gov.

Instructions: To send your comment through eCRB, if you don't have a user account, you will first need to register for an account and wait for your registration to be approved. Approval of user accounts is only available during business hours. Once you have an approved account, you can only sign in and file your comment after setting up multi-factor authentication, which can be done at any time of day. All comments must include the Copyright Royalty Board name and the docket number for this proposed rule. All properly filed comments will appear without change in eCRB at https://app.crb.gov, including any personal information provided.

Docket: For access to the docket to read background documents or comments received, go to eCRB at https://app.crb.gov and perform a case search for docket 21-CRB-0001-PR (2023-2027).

FOR FURTHER INFORMATION CONTACT: Anita Blaine, CRB Program Specialist, at 202-707-7658 or crb@loc.gov.

SUPPLEMENTARY INFORMATION: On June 25, 2021, The Copyright Royalty Judges published for comment proposed regulations (arising from a partial settlement) that set rates and terms applicable during the period beginning January 1, 2023, and ending December 31, 2027, for the section 115 statutory license for making and distributing phonorecords of nondramatic musical works. Comments were due by July 26, 2021. 86 FR 33601 (June 25, 2021). Some filers experienced technical difficulties filing their comments in eCRB. The CRB is aware of the problem and is working on a solution. The Judges therefore extend the deadline for filing comments to August 10, 2021.

Jesse M. Feder,
Chief Copyright Royalty Judge.

[FR Doc. 2021-16276 Filed 7-27-21; 4:15 pm]

BILLING CODE 1410-72-P